DEPARTMENT OF THE INTERIOR

National Park Service

Draft Environmental Impact Statement and Environmental Impact Report; Giacomini Wetlands Restoration Project, Point Reyes National Seashore, Marin County, CA; Notice of Availability

Summary: Pursuant to § 102(2)(C) of the National Environmental Policy Act of 1969 (Pub. L. 91-190, as amended), and the Council on Environmental Quality Regulations (40 CFR part 1500-1508), the National Park Service, Department of the Interior, has prepared a Draft Environmental Impact Statement identifying and evaluating the no action alternative and four action alternatives for restoration activities in Giacomini Wetlands. When approved, the project planning will guide the NPS in restorating lands at the headwaters of Tomales Bay, Marin County, California. Because some of the proposed project area includes state, county and private lands, the Draft Environmental Impact Statement also includes information as required by the California Environmental Quality Act (CEQA) for a Draft Environmental Impact Report (DEIR). The California State Lands Commission is the CEQA lead agency for this project. The potential impacts of a “no action” alternative and four “action” alternatives are assessed and, where appropriate, mitigation measures are applied to reduce the intensity of the potential effect or to avoid the potential effect. Three other preliminary alternatives were considered but rejected because they did not achieve the objectives of the restoration plan or were infeasible.

Planning Background

Point Reyes National Seashore is a unit of the National Park Service (NPS) that is located in Marin County, California. It was established by Congress on September 13, 1962, “to save and preserve, for the purpose of public recreation, benefit, and inspiration, a portion of the diminishing seashore of the United States that remains undeveloped” (Pub. L. 87-657). A large portion of Tomales Bay watershed lands were acquired by the NPS in the 1960s and 1970s for establishment of two neighboring parks—Point Reyes National Seashore (Seashore) and Golden Gate National Recreation Area (GGNRA). In 1980, the boundary for GGNRA was expanded to include the Giacomini Ranch and the eastern portion of Tomales Bay. The Giacomini Ranch falls within the north district of the GGNRA, which is administered by the Seashore.

The Seashore is proposing to restore wetlands at a historic coastal salt marsh site known as the Waldo Giacomini Ranch in Tomales Bay, an embayment that borders the Seashore to the north. The property was diked in 1946 and has been used by the Waldo Giacomini Family as a dairy since then. The action is being considered now by the Seashore because funds were recently received to purchase the property. At least a portion of the funding for the purchase came from the California Department of Transportation (Caltrans), which was under obligation to the California Coastal (CCC) to mitigate for impacts resulting from the Lone Tree road repair conducted in the early 1990s. The CCC eventually allowed Caltrans to fulfill mitigation obligations by making funds available to the NPS to purchase, restore, and manage an alternative wetland site. These funds were spent in 2000 to purchase a portion of the 563-acre historic coastal salt marsh. While the NPS is obligated under its agreement with Caltrans and CCC to mitigate only a total of 3.6 acres, the NPS believes that the potential value of the historic salt marsh is significant not only to the Seashore and its resource conservation objectives, but to the Tomales Bay watershed ecosystem as a whole. Tomales Bay was recently declared impaired for sediment, nutrients, and fecal coliform by the San Francisco Regional Water Quality Control Board under Section 303(d) of the Clean Water Act. Coastal wetlands act as both a food source and filtering system for estuarine and marine systems, and the loss of these wetlands in many parts of the bay has contributed to this designation. The diking of the Giacomini Ranch, a deltaic land feature at the head of Tomales Bay, resulted in the loss of a large percentage of the coastal tidal wetlands, which restoration as proposed will return.

The project purpose and goals reflect a broad ecosystem-level approach to restoration. The project purpose is to restore natural hydrologic processes within a significant portion of the area, thereby promoting restoration of ecological processes and functions. Three goals were developed to support the overall purpose: (1) Restore natural, self-sustaining tidal, fluvial (stream-flow), and groundwater hydrologic processes in a significant portion of the area, thereby enabling reestablishment of some of the ecological processes and functions associated with wetland and riparian areas, such as water quality improvement, floodwater storage, food chain support, and wildlife habitat. (2) Pursue a watershed-based approach to restoration in that restoration planning will emphasize opportunities to improve ecological conditions within the entire Tomales Bay watershed, not just in the Project Area itself. (3) To the extent possible, incorporate opportunities for the public to experience and enjoy the restoration process as long as opportunities do not conflict with the project's purpose or with NPS, CSLC, or other agency legislation or policies.

For these reasons, the Seashore proposes to restore natural hydrologic and ecological processes on most or all of the 563-acre property, and several courses of action for accomplishing this restoration that encompass a full range of hydrologic options are being considered. These include: removal of all levees and berms, partial removal of levees and berms, lowering height of levees and berms, and installation of tidegates or culverts. The alternatives developed may be changed and/or refined based on public input and their ability to meet NPS and public objectives.

Proposed Giacomini Wetlands Restoration Plan

Alternative C (Preferred Alternative)—Full Restoration of the Giacomini Ranch East and West Pastures and Restoration of Olema Marsh, with Moderate Public Access. This alternative involves complete removal of levees in both the West and East Pasture, increasing tidal channel creation, grading, and revegetation. In addition, the project boundary for this alternative has been expanded to include Olema Marsh, which is located south of the Giacomini Ranch and White House Pool and is owned by Audubon Canyon Ranch (ACR) and the NPS. Olema Marsh and the Giacomini Ranch once formed an integrated tidal wetland complex. In Alternative C, there would be an adaptive restoration approach proposed for Olema Marsh that would include a phased approach to shallow channel excavation, vegetated berm removal, and potential replacement of Levee Road and Bear Valley Road culverts in the future should initial restoration efforts not achieve the desired degree of success. Public access components of Alternative C include the southern perimeter path and two spur trails on the eastern perimeter of the Giacomini Ranch.

Alternative to Proposed Plan

Under the “baseline” No Action Alternative, levees, tidegates, and culverts in the Giacomini Ranch will remain. An 11-acre area will be restored on the northeast corner of the east pasture to satisfy mitigation requirements for impacts caused by Cal Trans to aquatic habitat from a road repair on State Route 1 in Marin County in exchange for the NPS receiving monies to purchase and restore the Giacomini Ranch. The remainder of the levees in the East Pasture and West Pasture would remain, although there would be no levee maintenance. Under the No Action Alternative only, there is potential for limited grazing, with consultation conducted under a separate compliance process. Olema Marsh would not be restored, and there would be no new public access facilities.

Alternative A

Limited Restoration of the Giacomini Ranch East Pasture Only with Expanded Public Access, Including Culverted Earthen Fill Trail on Eastern Perimeter—Alternative A would involve selective breaching of the East Pasture levee, while levees and tidegates in the West Pasture would not be removed. A limited amount of tidal channel creation, creek bank grading, and revegetation would also be performed in the East Pasture. Most of the actions under this alternative focus on removal agricultural infrastructure such as filling of ditches, ripping of compacted roads, fence removal, and removal of pumps, pipelines, and concrete spillways, as well as removal of ranch buildings. As part of the public access, the southern perimeter trail would include a prefabricated bridge across Lagunitas Creek, near the old summer dam location across from White House Pool County Park. The bridge design would place footings outside of the active channel, thereby reducing effects on hydrologic processes. Future extension of the southern perimeter trail, in collaboration with the County of Marin, would connect White House Pool County Park with a path along Sir Francis Drake that would either run alongside Sir Francis Drake Boulevard or move off the road at the southern end of the unrestored West Pasture onto a low-elevation boardwalk that would join back with Sir Francis Drake Boulevard in Inverness Park. The other infrastructure constructed would be a culverted berm through trail on the eastern perimeter of the East Pasture.

Alternative B

Moderate Restoration of the Giacomini Ranch East Pasture and Limited Restoration of the West Pasture with Expanded Public Access, Including Boardwalk Trail on Eastern Perimeter. This alternative would completely remove the East Pasture levees and create several breaches in the West Pasture levee, as well as remove the tidegate on Fish Hatchery Creek. There would be no activities undertaken with Olema Marsh. Most of the new public access facilities would continue to be limited to the eastern and southern perimeters of the East Pasture, including construction of the pedestrian access bridge across Lagunitas Creek near the old summer dam, and a planning area for continuation of the southern perimeter trail to Inverness Park. The culverted-earthen fill portion of the eastern perimeter through-trail in Alternative A is replaced with a boardwalk in Alternative B. On the West Pasture north levee, a viewing area would replace the existing informal trail.

Alternative D (Environmentally Preferred Alternative)

Extensive Restoration of the Giacomini Ranch East Pasture, Full Restoration of the West Pasture, and Restoration of Olema Marsh with Limited Public Access. This alternative is very similar to Alternative C with no changes in the West Pasture. The very southern end of the East Pasture would be excavated to bring elevations down to intertidal elevations. Tomasini Creek would be fully realigned into one of its historic channel alignments, and the Mesa Road culverts on Tomasini Creek would be replaced to improve hydraulic connectivity, creek flow, and passage of salmonid species. As with Alternative C, there would be an adaptive restoration approach proposed for Olema Marsh that would include a phased approach to shallow channel excavation, vegetated berm removal, and potential replacement of Levee Road and Bear Valley Road culverts in the future should initial restoration efforts not achieve the desired degree of success. Public access components would include an improved spur trail leading to the edge of the Dairy Mesa and an improved spur trial on the southern perimeter following the existing alignment of the informal social path, but no bridge. On the eastern perimeter, a spur trail would be created on the historic railroad grade that would extend the existing Tomales Bay Trail.

Actions Common to All Alternatives

There are a series of activities common to all alternatives. These actions include discontinuation of agricultural land management on the property. Removal of general agricultural infrastructure and buildings would be conducted on upland areas. In addition, the Giacomins would remove all personal property from the premises, including worker housing trailers near Mesa Road. Water rights to Lagunitas Creek, acquired as part of the transfer of ownership would be dedicated to in-stream flow. Sediment transport and deposition from Fish Hatchery Creek and the 1906 Drainage regularly affect private residences and property adjacent to the project area. The Seashore proposes to continue to perform maintenance of the downstream portion of these creeks on an annual or periodic basis as needed to ensure that sediment deposition does not elevate flood risk to adjacent properties. finally, the NPS will be working with the USGS on a project to expand the tidewater goby population within the southern portions of Tomales Bay.

Scoping Summary

On September 23, 2002, a Notice of Intent (NOI) to prepare an Environmental Impact Statement (EIS) and to conduct public scoping was published in the Federal Register, initiating the environmental impact analysis process for the proposed wetlands restoration project. On September 25, 2002, a copy of the NOI and scoping information was sent to 45 adjacent landowners to the project site and 163 persons and organizations on a public review request list maintained by the Seashore. On October 4, 2002, the NOI was distributed to the Governor's Office of Planning and Research State Clearinghouse for distribution to interested state agencies (due to delays at the State Clearinghouse in distributing the NOI, the EIS scoping period for state agencies was extended to December 5, 2002). On october 2, 2002, a press release announcing public scoping was distributed to the Point Reyes Light, Marin Independent Journal, and Press Democrat, as well as 28 other media outlets, including newspapers, radio stations, and television stations. The press release was also posted on the Seashore's website. A notice of the public scoping was printed in the Point Reyes Light newspaper on October 3, 2002. The Seashore also mailed 1,380 notices announcing the public Advisory Commission meeting on October 19, 2002, would consider the Giacomini Wetlands Restoration project as an agenda item. The 45-day public scoping period for the EIS closed November 8, 2002.

Public comments were heard at a public information meeting at the Point Reyes Dance palace at the October 19, 2002, Advisory Commission meeting at the Point Reyes Dance Palace where approximately 30 to 40 members of the public attended. The Point Reyes Light published an account of the meeting on October 24, 2002. The public meeting featured a short overview of the planned restoration process, the environmental planning process, a brief history and summary of the project location, and potential benefits and impacts of restoration. At the end of the presentation, the meeting was opened for public comment, with nine members of the public providing comments. The topics covered by the public comments included issues around public access, land use planning, hydrology, alternatives and project planning. In addition to the public meeting, approximately 86 individuals or private organizations mailed, faxed, or e-mailed comments regarding the proposed project. commenting organizations include the Environmental Action Committee of West Marin, Marin County Bicycle Coalition, Access4bikes, Manzanal Homeowners Association, and Audubon Canyon Ranch. the Seashore and CSLC also received comments from the CCC; CalTrans; North Marin Water District (NMWD); Marin County Department of Parks, Open Space, and Cultural Services; Marin County Department of Public Works; and the State of California Department of Food and Agriculture and the County Supervisor for the Fourth District, Steve Kinsey. After scoping closed, a staff report was prepared summarizing comments received during initial scoping.

Following agreement by the California State Lands Commission (CSLC) to act as the lead CEQA agency, a Notice of Preparation for preparation of a joint EIS/EIR was prepared by CSLC, the lead CEQA agency, and distributed to the State Clearinghouse, which circulated the Notice of Preparation between May 29 and June 30, 2003. The public scoping period for the joint EIS/EIR closed on June 30, 2003.

Since the initial scoping phase concluded, the Seashore has held two additional public workshops to update interested parties with regard to conceptual project alternatives and public access alternatives. The Seashore has summarized results of public feedback, and incorporated this information into the final proposed project alternatives. All written and oral comments are documented in the project's administrative record.

Commenting on the Draft EIS/EIR

A public workshop on the proposed plan will be held during late winter 2006/07 at the Point Reyes National Seashore Red Barn Classroom (confirmed date and other workshop details will be advertised by direct mailing as well as a notice placed in the local newspapers). All interested individuals, organizations, and agencies will be encouraged to provide new comments, suggestions, and additional information (earlier scoping comments need not be resubmitted); all written comments must be postmarked not later than 60 days following publication in the Federal Register by EPA of their notice of filing of the availability of the Draft EIS/EIR (as soon as this date can be confirmed it will be announced on the park's Web site, and included in the workshop mailing). Questions at this time regarding the Giacomini Wetlands Restoration planning process or inquiries about the workshop should be addressed to the Superintendent either by mail (see Addresses below) or by telephone at (415) 464-5100.

Please note that our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Addresses: Copies of the Draft EIS/EIR may be obtained from the Superintendent, Point Reyes National Seashore, Point Reyes, CA 94956, Attn: Giacomini Wetlands Restoration, or by e-mail request to: pore_planning@nps.gov (in the subject line, type: Giacomini Wetlands Restoration). The document will be sent directly to those who have requested it, and also posted on the Internet at the park's Web page (http://www.nps.gov/pore/parkmgmt/planning); and both the printed document and digital version on compact disk will be available at the park headquarters and local libraries.

Decision

Following careful analysis of public and agency comment on the Draft EIS/EIR, it is anticipated at this time that the final EIS/EIR would be available in spring of 2007. As a delegated EIS, the official responsible for the final decision is the Regional Director, Pacific West Region, A Record of Decision would not be signed sooner than 30 days following release of the Final EIS/EIR; notice of the decision will be posted in the Federal Register and announced in local and regional newspapers. Following approval of the Giacomini Wetlands Restoration Plan, the official responsible for undertaking the restoration effort will be the Superintendent, Point Reyes National Seashore.

Dated: September 1, 2006.
Jonathan B. Jarvis,
Regional Director, Pacific West Region.

[FR Doc. 06-9001 Filed 11-2-06; 8:45 am]

BILLING CODE 4312-FW-M